DEPARTMENT OF COMMERCE

National Oceanic and Atmospheric Administration

Proposed Information Collection; Comment Request; NOAA Teacher at Sea Alumni Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 14, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Jennifer Hammond, (301) 713-1364 or Jennifer.Hammond@noaa.gov.

SUPPLEMENTARY INFORMATION:

I. Abstract

This request is for a renewal of a currently approved information collection. The National Oceanic and Atmospheric Administration (NOAA) provides educators an opportunity to gain first-hand experience with field research activities through the Teacher at Sea Program. Through this program, educators spend up to three weeks at sea on a NOAA research vessel, participating in an on-going research project with NOAA scientists. Once educators are selected and participate on a cruise, they write a report detailing the events of the cruise and ideas for classroom activities based on what they learned while at sea. These materials are then made available to other educators so they may benefit from the experience, without actually going to sea themselves. In order to better serve the participants, the Teacher at Sea Program will survey the teacher participants on their experience before, during, and after they return from sea. The survey will collect data only from teacher participants, not from applicants.

II. Method of Collection

Forms can be completed on line, printed, and mailed. Persons with full Adobe Acrobat software can save the on-line form and submit it electronically.

III. Data

OMB Control Number: 0648-0600.

Form Number: None.

Type of Review: Regular submission (extension of a current information collection).

Affected Public: Individuals or households.

Estimated Number of Respondents: 375.

Estimated Time per Response: 1 hour to read and complete survey, and 1 hour for a follow-up call from the external evaluator.

Estimated Total Annual Burden Hours: 750.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 12, 2010.
Gwellnar Banks,
Management Analyst, Office of Chief Information Officer.

[FR Doc. 2010-25992 Filed 10-14-10; 8:45 am]

BILLING CODE 3510-22-P